DEPARTMENT OF TRANSPORTATION

Surface Transportation Board

Notice and Request for Comments

AGENCY: Surface Transportation Board, DOT.

ACTION: 30-day notice of request for approval: Report of Fuel Cost, Consumption, and Surcharge Revenue.

SUMMARY: As part of its continuing effort to reduce paperwork burdens, and as required by the Paperwork Reduction Act of 1995, 44 U.S.C. 3501-3519 (PRA), the Surface Transportation Board (Board) gives notice that it is requesting from the Office of Management and Budget (OMB) approval of the information collection—Report of Fuel Cost, Consumption, and Surcharge Revenue—further described below. The Board previously published a notice about this collection in the Federal Register on June 24, 2013, at 78 FR 37883. That notice allowed for a 60-day public review and comment period. One comment was received and is addressed in the Board's Supporting Statement, which was submitted to OMB as part of the Board's request for approval of this collection under the Paperwork Reduction Act. The Board's request to OMB can be viewed on OMB's Web site at http://www.reginfo.gov/public/do/PRAMain.

Comments may now be submitted to OMB concerning: (1) The accuracy of the Board's burden estimates; (2) ways to enhance the quality, utility, and clarity of the information collected; (3) ways to minimize the burden of the collection of information on the respondents, including the use of automated collection techniques or other forms of information technology when appropriate; and (4) whether the collection of information is necessary for the proper performance of the functions of the Board, including whether the collection has practical utility.

Description of Collection

Title: Report of Fuel Cost, Consumption, and Surcharge Revenue.

OMB Control Number: 2140-0014.

STB Form Number: None.

Type of Review: Extension without change.

Respondents: Class I railroads (railroads with operating revenues exceeding $250 million in 1991 dollars).

Number of Respondents: 7.

Estimated Time per Response: 1 hour.

Frequency: Quarterly.

Total Burden Hours (annually including all respondents): 28 hours.

Total “Non-hour Burden” Cost: None identified.

Needs and Uses: Under 49 U.S.C. 10702, the Surface Transportation Board has the authority to address the reasonableness of a rail carrier's practices. This information collection permits the Board to monitor the current fuel surcharge practices of the Class I carriers. Failure to collect this information would impede the Board's ability to fulfill its responsibilities under 49 U.S.C. 10702. The Board has authority to collect information about rail costs and revenues under 49 U.S.C. 11144 and 11145.

Retention Period: Information in this report is maintained on the Board's Web site for a minimum of one year and is otherwise maintained by the Board for a minimum of two years.

DATES: Comments on this information collection should be submitted by February 14, 2014.

ADDRESSES: Written comments should be directed to the Office of Management and Budget, Office of Information and Regulatory Affairs, Attention: Patrick Fuchs, Surface Transportation Board Desk Officer, by fax at (202) 395-5167; by mail at OMB, Room 10235, 725 17th Street NW., Washington, DC 20500; or by email at OIRA—submission@omb.eop.gov and refer to the title of the collection(s) commented upon. For further information regarding the Report of Fuel Cost, Consumption, and Surcharge Revenue, or to obtain a copy of the reporting form, contact Paul Aguiar at (202) 245-0323 or economic.data@stb.dot.gov. [Federal Information Relay Service (FIRS) for the hearing impaired: (800) 877-8339.] The form is also available on the Board's Web site.

SUPPLEMENTARY INFORMATION: Under the PRA, a Federal agency conducting or sponsoring a collection of information must display a currently valid OMB control number. A collection of information, which is defined in 44 U.S.C. 3502(3) and 5 CFR1320.3(c), includes agency requirements or requests that persons submit reports, keep records, or provide information to the agency, third parties, or the public. Section 3507(b) of the PRA requires, concurrent with an agency's submitting a collection to OMB for approval, a 30-day notice and comment period through publication in the Federal Register concerning each proposed collection of information, including each proposed extension of an existing collection of information.

Dated: January 10, 2014.
Jeffrey Herzig,
Clearance Clerk.

[FR Doc. 2014-00607 Filed 1-14-14; 8:45 am]

BILLING CODE 4915-01-P